DEPARTMENT OF COMMERCE

International Trade Administration

North American Free Trade Agreement (NAFTA), Article 1904 Binational Panel Reviews

AGENCY: NAFTA Secretariat, United States Section, International Trade Administration, Department of Commerce.

ACTION: Notice of completion of panel review of the Department of Commerce's final determination concerning carbon and certain alloy steel wire rod from Canada (Secretariat File No. USA-CDA-2009-1904-01).

SUMMARY: Pursuant to the Decision and Order of the Binational Panel dated April 29, 2014, the panel review was completed on May 30, 2014.

FOR FURTHER INFORMATION CONTACT: Ellen Bohon, United States Secretary, NAFTA Secretariat, Suite 2061, 14th and Constitution Avenue, Washington, DC 20230, (202) 482-5438.

SUPPLEMENTARY INFORMATION: On April 29, 2014, a Binational Panel issued its Decision and Order upholding the final results of the 2006-2007 administrative review of the antidumping order issued by the U.S. Department of Commerce concerning Carbon and Certain Alloy Steel Wire Rod from Canada. The Secretariat was instructed to issue a Notice of Completion of Panel Review on the 31st day following the issuance of the Notice of Final Panel Action, if no request for an Extraordinary Challenge Committee was filed. No such request was filed. Therefore, on the basis of the Panel Order and Rule 80 of the Article 1904 Panel Rules, the Panel Review was completed and the panelists were discharged from their duties effective May 30, 2014.

Dated: June 2, 2014.
Ellen M. Bohon,
United States Secretary, NAFTA Secretariat.

[FR Doc. 2014-13115 Filed 6-5-14; 8:45 am]

BILLING CODE 3510-DR-P